DEPARTMENT OF JUSTICE

Notice of Lodging of Consent Decrees Under The Comprehensive Environmental Response, Compensation, and Liability Act (CERCLA)

Notice is hereby given that on December 18, 2009, two proposed Consent Decrees in the case of U.S. v. Mascot Mines, Inc., et al., Civil Action No. 08-383-EJL, with Defendants Mascot Mines, Inc. and Nabob Silver-Lead Company and with Defendant United Resource Holdings Group, Inc., were lodged with the United States District Court for the District of Idaho.

The United States filed a complaint in September 2008 alleging that the defendants are liable pursuant to Section 107(a) of CERCLA for response costs incurred and to be incurred by the United States in connection with Operable Unit Three of the Bunker Hill Mining and Metallurgical Complex Superfund Site in northern Idaho. The proposed Consent Decrees grant each settling defendant a covenant not to sue for response costs, as well as natural resource damages, in connection with the Site. The Coeur d'Alene Tribe is a co-trustee of injured natural resources at the Site and a party to the proposed Consent Decrees. The settlements are based on an analysis of each settling defendant's limited ability to pay and require payments totaling $90,000. The settlements also require assignment of interest in insurance policies to a trust, for the benefit of EPA and the natural resource trustees, and payment of two percent of net smelter returns generated from any future mining activities.

For thirty (30) days after the date of this publication, the Department of Justice will receive comments relating to the Consent Decrees. Comments should be addressed to the Assistant Attorney General, Environment and Natural Resources Division, and either e-mailed to pubcomment-ees.enrd@usdoj.gov or mailed to P.O. Box 7611, U.S. Department of Justice, Washington, DC 20044-7611. In either case, the comments should refer to U.S. v. Mascot Mines, Inc., et al., D.J. Ref. No. 90-11-3-128/7.

During the comment period, the Consent Decrees may be examined on the following Department of Justice Web site: http://www.usdoj.gov/enrd/Consent_Decrees.html. A copy of the Consent Decrees may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $32.25 (25 cents per page reproduction cost) payable to the United States Treasury or, if by e-mail or fax, forward a check in that amount to the Consent Decree Library at the stated address.

Maureen Katz,
Assistant Chief, Environmental Enforcement Section, Environment and Natural Resources Division.

[FR Doc. 2010-269 Filed 1-8-10; 8:45 am]

BILLING CODE 4410-15-P